DEPARTMENT OF THE INTERIOR

National Park Service

[NPS-WASO-WMRI-NPS0036614; PPWOWMADH2 199 PPMPSAS1Y.YH0000 (222); OMB Control Number 1024-0282]

Agency Information Collection Activities; Submission to the Office of Management and Budget for Review and Approval; National Park Service Background Investigation/Clearance Initiation Request

AGENCY: National Park Service, Interior.

ACTION: Notice of information collection; request for comment.

SUMMARY: In accordance with the Paperwork Reduction Act of 1995 we, the National Park Service (NPS) are proposing to renew an existing information collection with revisions.

DATES: Interested persons are invited to submit comments on or before November 2, 2023.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 13461 Sunrise Valley Drive, Mail Stop 244, Reston, VA 20192, VA 20191 (mail); or phadrea_ponds@nps.gov (email). Please reference OMB Control Number 1024-0282 in the subject line of your comments.

FOR FURTHER INFORMATION CONTACT: To request additional information about this ICR, contact Byron Hill, Security Officer, National Park Service, Snellville, GA 30078 (mail) or byron_hill@nps.gov (email) or 404-406-0527 (telephone). Please reference OMB Control Number 1024-0282 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 12, 2022 (87 FR 55848). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Authorized by Executive Order 10450, the Homeland Security Presidential Directive (HSPD-12), regulations mandated by the U.S. Office of Personnel Management OPM, and the Department of the Interior (DOI), the National Park Service (NPS) collects information from all applicants for Federal employment and non-Federal personnel requiring access to NPS property.

The NPS uses Form 10-152, “Background Clearance Initiation Request” to collect information from all applicants to determine their suitability to receive DOI credentials. The National Background Investigation Services (NBIS) Electronic Application (eApp) System, is used to create accounts necessary to initiate background investigations for all individuals requiring access to NPS property and/or to receive a DOIAccess Personal Identification Verification (PIV) badge. The information collected is protected by the Privacy Act and maintained in a secure system of records Interior/DOI-45, “HSPD-12: Identity Management System and Personnel Security Files,” 86 FR 50156; September 7, 2021).

With this renewal, we're proposing to update the name of the form from National Park Service Background Clearance Initiation Request to National Park Service Investigation/Background Clearance Initiation Request. Adding “Investigation” to the form clarifies the purpose and intent of the form. We've made modifications to two of the fields, expanding on the response options to clarify the different non-federal affiliations for fields in DOI Access and also based on the changes in the vetting model. We've added four new fields based on the new administrative requirements and due to the feedback received during the voluntary outreach exercise.

Title of Collection: National Park Service Background Investigation/Clearance Initiation Request.

OMB Control Number: 1024-0282.

Form Number: NPS Form 10-152.

Type of Review: Revision of a currently approved collection.

Respondents/Affected Public: Candidates for Federal employment, as well as contractors, partners, and other non-Federal candidates proposed to work for the NPS under a Federal contract or agreement who require access to NPS property and/or a DOI Access PIV badge.

Total Estimated Number of Annual Respondents: 6,500.

Total Estimated Number of Annual Responses: 6,500.

Estimated Completion Time per Response: 7 minutes.

Total Estimated Number of Annual Burden Hours: 758.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-21778 Filed 10-2-23; 8:45 am]

BILLING CODE 4312-52-P